DEPARTMENT OF COMMERCE

International Trade Administration

Notice of Vacancies on the U.S.-Iraq Business Dialogue

AGENCY: International Trade Administration, Department of Commerce.

ACTION: Notice.

SUMMARY: The U.S. Department of Commerce and the Iraqi Ministry of Trade established the U.S.-Iraq Business Dialogue (Business Dialogue or Dialogue) in July 2006. This notice announces four open membership opportunities for American representatives to join the U.S. section of the Dialogue.

DATES: Applications must be received no later than January 21, 2008; 5 p.m. EST.

ADDRESSES: Please send requests for consideration to Ms. Susan Hamrock Mann, Director, Iraq Investment and Reconstruction Task Force, U.S. Department of Commerce, either by fax on 202-482-0980 or by mail to U.S. Department of Commerce, 14th and Constitution Avenue, NW., Mail Stop 3868, Washington, DC 20230.

FOR FURTHER INFORMATION CONTACT: Mr. Kevin M. Reichelt, Office of the Middle East, U.S. Department of Commerce, Room 2029-B, Washington, DC 20230. Phone: 202-482-2896.

SUPPLEMENTARY INFORMATION: The U.S. Department of Commerce and the Iraqi Ministry of Trade established the Dialogue as a bilateral forum to facilitate private sector business growth in Iraq and to strengthen trade and investment ties between the United States and Iraq. During Secretary of Commerce Carlos M. Gutierrez's visit to Iraq in July 2006, he joined Iraqi Minister of Trade Dr. Abd-al-Falah al-Sudani in signing the Joint Statement on Commercial Cooperation, which formally provided for the establishment of the Dialogue. In their next meeting in September 2006, the Secretary and the Minister approved and signed the Terms of Reference for the Dialogue.

The U.S. Secretary of Commerce and the Iraqi Minister of Trade co-chair the Dialogue. The Dialogue consists of a U.S. Section and an Iraqi Section. Each Section consists of members from the private sector, representing the views and interests of the private sector business community. Each Party appoints the members to its respective Section. The Sections provide advice and counsel to the U.S. Department of Commerce and the Iraqi Ministry of Trade that reflect private sector views, needs, and concerns regarding private sector business development in Iraq and enhanced bilateral commercial ties that could form the basis for expanded trade between the United States and Iraq. The Dialogue will exchange information and encourage bilateral discussions that address the following areas:

—Factors that affect the growth of private sector business in Iraq, including disincentives to trade and investment and regulatory obstacles to job creation and investment growth;

—Initiatives that the Government of Iraq might take, such as enacting, amending, enforcing, or repealing laws and regulations, to promote private sector business growth in Iraq;

—Promotion of business opportunities in both Iraq and the United States, and identification of opportunities for U.S. and Iraqi firms to work together; and

—Attracting U.S. businesses to opportunities in Iraq and serving as a catalyst for Iraqi private sector growth.

The members will represent a cross-section of American business with an emphasis, to the extent possible, on agribusiness and food processing, financial services and private equity, construction and housing, information technology, consumer products, and manufacturing industries. The following sectors currently are represented on the U.S. Section of the USIBD: Telecommunications; petroleum; construction equipment; financial; and logistics. Applications to represent any sector will be considered. However, in an effort to expand the sectors represented on the U.S. Section of the Dialogue, the Department particularly encourages applications from persons who would represent the consumer goods and services, private equity, health, aviation, and electricity sectors.

Members serve in a representative capacity representing the views and interests of their particular industries. Members are not special government employees, and receive no compensation for their participation in Dialogue activities. Only appointed members may participate in official Dialogue meetings; substitutes and alternates will not be designated. Section members serve for three-year terms, but may be reappointed. U.S. Section members serve at the discretion of the U.S. Department of Commerce.

The U.S. Department of Commerce is currently seeking candidates for four membership positions on the U.S. Section of the Dialogue. Candidates will be evaluated based on: Their interest in the Iraqi market; export/investment experience; contribution to diversity based on size of company, geographic location, and sector; and ability to initiate and be responsible for activities in which the Business Dialogue will be active.

In order to be eligible for membership in the U.S. section, potential candidates shall be:

—A U.S. citizen residing in the United States, or able to travel to the United States or other location to attend official Business Dialogue meetings;

—The President or CEO (or comparable level of responsibility) of a private sector company; if the company is very large, the head of a sizeable operating unit of that company; or the head of a non-profit entity, such as a trade or industry association, who possesses unique technical expertise, an outstanding reputation, and the ability to provide counsel with respect to private sector business development in Iraq; and

—Not a registered foreign agent under the Foreign Agents Registration Act of 1938, as amended.

Members will be selected on the basis of who best will carry out the objectives of the Business Dialogue as stated in the Terms of Reference establishing the Dialogue. (The Terms of Reference are available from the point of contact listed above.) Recommendations for appointment will be made to the Secretary of Commerce. All candidates will be notified of whether they have been selected.

To be considered for membership, please submit the following information as instructed in the addresses and dates captions above: Name(s) and title(s) of the individual(s) requesting consideration; name and address of company or non-profit entity to be represented; size of the company or non-profit entity; description of relevant product, service, or technical expertise; size of company's export trade, investment, and/or international program experience; nature of operations or interest in Iraq; and a brief statement of why the candidate should be appointed, including information about the candidate's ability to initiate and be responsible for activities in which the Business Dialogue will be active.

Dated: January 2, 2008.
Susan Hamrock Mann,
Director, Iraq Investment and Reconstruction Task Force.

[FR Doc. E9-59 Filed 1-6-09; 8:45 am]

BILLING CODE 3510-DA-P